DEPARTMENT OF JUSTICE

Notice of Lodging of Proposed Consent Decree Under the Comprehensive Environmental Response, Compensation and Liability Act

On March 8, 2019, the Department of Justice lodged a proposed consent decree with the United States District Court for the Eastern District of Missouri in the lawsuit entitled United States v. Missouri Department of Natural Resources, Division of State Parks, et al., Civil Action No. 4:19-cv-00421.

The United States filed this lawsuit under the Comprehensive Environmental Response, Compensation and Liability Act (CERCLA). The United States' complaint names as the Defendants the Missouri Department of Natural Resources, Division of State Parks and its director, Ben Ellis, in his official capacity. The complaint seeks recovery of costs that the United States incurred responding to releases of hazardous substances at the Big River Mine Tailings Superfund Site in St. Francois County, Missouri. The complaint also seeks injunctive relief in the form of the performance of the selected remedy for Operable Unit 01 of the Site.

The Consent Decree requires the Defendants to perform the remedy on 98 affected residential properties and to pay $65,000 of the United States' response costs. In return for the Defendants' commitments, the United States agrees not to sue the Defendants under sections 106 and 107 of CERCLA.

The publication of this notice opens a period for public comment on the consent decree. Comments should be addressed to the Assistant Attorney General, Environment and Natural Resources Division, and should refer to United States v. Missouri Department of Natural Resources, Division of State Parks, et al., D.J. Ref. No. 90-11-3-09306/6. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $8.50 (25 cents per page reproduction cost) payable to the United States Treasury.

Susan M. Akers,
Assistant Section Chief, Environmental Enforcement Section, Environment and Natural Resources Division.

[FR Doc. 2019-04635 Filed 3-12-19; 8:45 am]

BILLING CODE 4410-15-P